DEPARTMENT OF HEALTH AND HUMAN SERVICES

Administration for Children and Families

Deviation From Competition for Change in Scope and a Supplement to ARC of the United States “Medicaid Reference Desk”

AGENCY: Administration on Developmental Disabilities, ACF, FDHHS.

ACTION: Notice.

SUMMARY: The original and proposed objectives were designed to address the needs of people to have a timely access to information regarding the structure and functioning of State Medicaid programs and Federal level changes that have an impact on State systems of support and also provide a Web site that includes developing highly accessible alternative formats for delivering information to individuals with various disabilities through technology.

The ARC of the United States, the Administration on Developmental Disabilities and the Centers for Medicare and Medicaid Services (CMS) will partner to implement the “Guide to Choosing a Medicare Approved Drug Discount Card” to include a web-based product with audio and video clips for individuals with intellectual disabilities and limited literacy skills. This will be accomplished by the Centers for Medicare and Medicaid Services providing funding to supplement this grant in the amount of $12,000. This grant can be accomplished within the period of 30 days to coincide with the ongoing project period which will end September 30, 2004.

This supplement will allow the ARC of the United States to translate an on-line resource for States and organizations a plain language version of the “Guide to Choosing a Medicare Approved Drug Discount Card.” The translation will include brief audio and video clips explaining each important detail specified in the Guide. This will increase peoples understanding especially those with language and literacy needs. Making this resource available directly to States and to the wide network of advocacy organizations will prevent a great deal of confusion and even more, it will save ADD and CMS personnel countless hours in telephone and on-site personal assistance.

FOR FURTHER INFORMATION CONTACT: Administration for Children and Families (ACF), Debbie Powell, Director, Office of Operations and Discretionary Grants, 370 L'Enfant Promenade, SW., MS 405D, Washington, DC 20447, Telephone: (202) 690-6590.

Dated: August 13, 2004.
Patricia A. Morrissey,
Commissioner, Administration on Developmental Disabilities.

[FR Doc. 04-19173 Filed 8-19-04; 8:45 am]

BILLING CODE 4184-01-P